Title 3—

The President

Proclamation 8404 of August 30, 2009

National Historically Black Colleges and Universities Week, 2009

By the President of the United States of America

A Proclamation

For generations, education has opened doors to untold opportunities and bright futures. Through quality instruction and a personal commitment to hard work, young people in every part of our Nation have gone on to achieve success. Established by men and women of great vision, leadership, and clarity of purpose, Historically Black Colleges and Universities (HBCUs) have provided generations of Americans with opportunity, a solid education, and hope.

For more than 140 years, HBCUs have released the power of knowledge to countless Americans. Pivotal in the Civil Rights Movement, HBCUs offer us a window into our Nation's past as well as a path forward. Graduates of HBCUs have gone on to shape the course of American history—from W.E.B. DuBois and Booker T. Washington, to Langston Hughes and Thurgood Marshall. Today, in twenty States, the District of Columbia, and the U.S. Virgin Islands, these colleges and universities are serving hundreds of thousands of students from every background and have contributed to the expansion of the African American middle class, to the growth of local communities, and to our Nation's overall economy.

This week, we celebrate the accomplishments of HBCUs and look to the future with conviction and optimism. These institutions will play a key role in reaching our ambitious national education goals, including having the highest proportion of college graduates in the world by 2020. As our Nation strives toward this goal, we invite HBCUs to employ new, innovative, and ambitious strategies to help the next generation of Americans successfully complete college and prepare themselves for the global economy. During National Historically Black Colleges and Universities Week, we recommit ourselves to never resting until equality is real, opportunity is universal, and all citizens can realize their dreams.

NOW, THEREFORE, I, BARACK OBAMA, President of the United States of America, by virtue of the authority vested in me by the Constitution and laws of the United States, do hereby proclaim August 30 through September 5, 2009, as National Historically Black Colleges and Universities Week. I call upon public officials, educators, and all the people of the United States to observe this week with appropriate programs, ceremonies, and activities that acknowledge the tremendous contributions these institutions and their graduates have made to our country.

IN WITNESS WHEREOF, I have hereunto set my hand this thirtieth day of August, in the year of our Lord two thousand nine, and of the Independence of the United States of America the two hundred and thirty-fourth.

[FR Doc. E9-21327

Filed 9-1-09; 8:45 am]

Billing code 3195-W9-P